DEPARTMENT OF THE INTERIOR

Bureau of Land Management

[NV-010-1990-EX]

Notice of Availability of Final Supplemental Environmental Impact Statement; Betze Project Dewatering, Eureka and Elko Counties, NV

AGENCY: Bureau of Land Management, Interior.

ACTION: Notice of availability (NOA) of final Supplemental Environmental Impact Statement (SEIS).

SUMMARY: Pursuant to section 102(2)(C) of the National Environmental Policy Act, 40 CFR parts 1500-1508 and 43 CFR part 3809, notice is given that the Elko Field Office of the Bureau of Land Management has prepared a final SEIS for Barrick Goldstrike's dewatering operations for the Betze/Post Project in northeastern Nevada.

EFFECTIVE DATE: The final SEIS will be distributed and made available to the public following publication of this notice in the Federal Register. The period of availability for public review for the final SEIS ends 30 days after publication of this notice in the Federal Register.

ADDRESSES: A copy of the final SEIS can be obtained from: Bureau of Land Management, Elko Field Office; Attn: Kirk Laird, SEIS Coordinator; 3900 E. Idaho Street; Elko, NV 89801. The final SEIS may also be downloaded from the Elko Field Office Internet site at http://www.nv.blm.gov/elko.

FOR FURTHER INFORMATION CONTACT: Kirk Laird, SEIS Coordinator, at the above Elko Field Office address or telephone (775) 753-0200.

SUPPLEMENTARY INFORMATION: The SEIS supplements the analysis of dewatering for the Betze Project originally analyzed for an Environmental Impact Statement completed in 1991. The SEIS analysis is based on updated data, changes in the dewatering program, and improved hydrogeologic modeling. The draft SEIS analyzed a proposed additional water pipeline, which has been canceled, is no longer subject to analysis, and thus is not part of the final SEIS. The SEIS analyzes the potential impact of ongoing dewatering by Barrick's Goldstrike Mine, approved by the State of Nevada, and proposed dewatering by other mines along the Carlin Trend and analyzes updated mitigation measures. An abbreviated final SEIS has been produced. The abbreviated final SEIS contains copies of comment letters received on the draft SEIS, responses to those comments, and an errata section with specific modifications and corrections to the draft in response to the comments.

Dated: January 10, 2003.
Helen Hankins,
Field Manager.

[FR Doc. 03-1073 Filed 1-30-03; 8:45 am]

BILLING CODE 4310-HC-P